DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 18, 2011.

Address Comments To: Record Center, Pipeline and Hazardous Materials Safety Administration, U.S. Department of Transportation, Washington, DC 20590

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://regulations.gov.

This notice of receipt of applications for special permit is published in accordance with Part 107 of the Federal hazardous materials transportation law (49 U.S.C. 5117(b); 49 CFR 1.53(b)).

Issued in Washington, DC, on March 10, 2011.
Donald Burger,
Chief, Special Permits and Approvals Branch.

New Special Permits
Application No. | Docket No. | Applicant | Regulation(s) affected | Nature of special permits thereof
15276-N |  | Ecotec Manufacturing Inc. d.b.a Yiwu City Machine Factory, Okeechobee, FL | 49 CFR 173.304a and 178.33 | To authorize the manufacture, marking, sale and use of non-refillable non-DOT specification inside metal container similar to a DOT specification 2Q for the transportation in commerce of Division 2.2 compressed gases. (mode 1).
15279-N |  | University of Colorado at Boulder, CO | 49 CFR Parts 171-180 | To authorize the transportation in commerce of Division 6.2 materials without being subject to the Hazardous Materials Regulations when transported for short distances by motor vehicle (less than 2 miles). (mode 1).
15282-N |  | Lockheed Martin Space Systems Company, Denver, CO | 49 CFR 172.101 Column (9B), 173.301(f), 173.302a(a)(1) and 173.304 a(a)(2) | To authorize the transportation in commerce of anhydrous ammonia in heat pipes (modes 1, 2, 3, 4).
15284-N |  | Solvay Fluorides, LLC, Houston, TX | 49 CFR 179.15(a), 173.31(e)(2)(ii) and 173.244 (a)(2) | To authorize the transportation in commerce of anhydrous hydrogen fluoride in a DOT 112S500I car with a minimum shell thick-thickness of 1.263″ and full height headshields. (mode 2).
15296-N |  | ATK Launch Systems Inc., Brigham City, UT | 49 CFR 172.101 Column (8C) and 173.211 | To authorize the transportation in commerce of a Division 4.1 material in alternative packaging by motor vehicle. (mode 1).

[FR Doc. 2011-6183 Filed 3-17-11; 8:45 am]

BILLING CODE 4909-60-M